DEPARTMENT OF THE INTERIOR

Bureau of Land Management

[LLOR-936000-L14300000-ET0000-14XL1109AF; HAG-140017; OR-51332]

Notice of Application for Withdrawal Extension and Opportunity for Public Meeting; Oregon

AGENCY: Bureau of Land Management, Interior.

ACTION: Notice.

SUMMARY: The United States Forest Service (USFS) has filed an application with the Bureau of Land Management (BLM) requesting that the Secretary of the Interior extend the duration of Public Land Order (PLO) No. 7169 for an additional 20-year term. PLO No. 7169 withdrew approximately 86.85 acres of National Forest System land from mining in order to protect the cultural resource sites at Wocus Point. The withdrawal established by PLO No. 7169 will expire on October 25, 2015, unless it is extended. This notice gives the public an opportunity to comment on the application and proposed action and to request a public meeting.

DATES: Comments and requests for a public meeting must be received by April 7, 2014.

ADDRESSES: Comments and meeting requests should be sent to the BLM Oregon/Washington State Director, P.O. Box 2965, Portland, OR 97208-2965 or 1220 SW 3rd Avenue, Portland, OR 97204-3264.

FOR FURTHER INFORMATION CONTACT: Sara Copp, BLM Oregon/Washington State Office, 503-808-6189; or Candice Polisky, USFS Pacific Northwest Region, 503-808-2479. Persons who use a telecommunications device for the deaf (TDD) may call the Federal Information Relay Service (FIRS) at 1-800-877-8339 to contact the above individuals. The FIRS is available 24 hours a day, 7 days a week, to leave a message or question with the above individuals. You will receive a reply during normal business hours.

SUPPLEMENTARY INFORMATION: The USFS has filed an application requesting that the Secretary of the Interior extend PLO No. 7169 (60 FR 54814 (1995)), which withdrew approximately 86.85 acres in Klamath County, Oregon, from location and entry under the United States mining laws (30 U.S.C. Ch. 2) for an additional 20-year term, subject to valid existing rights. PLO No. 7169 is incorporated herein by reference.

The purpose of the proposed withdrawal extension is to ensure the continued protection of the unique and fragile cultural resources found at the Wocus Point area.

The use of a right-of-way, interagency agreement, or cooperative agreement would not provide adequate protection.

The USFS would not need to acquire water rights to fulfill the purpose of the requested withdrawal extension.

Records related to the application may be examined by contacting Sara Copp at the above address or phone number.

For a period until April 7, 2014, all persons who wish to submit comments, suggestions, or objections in connection with the proposed withdrawal extension may present their views in writing to the BLM State Director at the address indicated above.

Comments, including names and street addresses of respondents, will be available for public review at the addresses indicated above during regular business hours. Before including your address, phone number, email address, or other personal identifying information in your comment, be advised that your entire comment—including your personal identifying information—may be made publicly available at any time. While you can ask us in your comment to withhold from public review your personal identifying information, we cannot guarantee that we will be able to do so.

Notice is hereby given that an opportunity for a public meeting is afforded in connection with the proposed withdrawal extension. All interested parties who desire a public meeting for the purpose of being heard on the proposed withdrawal extension must submit a written request to the BLM State Director at the address indicated above by April 7, 2014. Upon determination by the authorized officer that a public meeting will be held, a notice of the time and place will be published in the Federal Register and a local newspaper at least 30 days before the scheduled date of the meeting.

The application will be processed in accordance with the regulations set forth in 43 CFR 2300.4.

Fred O'Ferrall,
Chief, Branch of Land, Mineral, and Energy Resources.

[FR Doc. 2013-31594 Filed 1-6-14; 8:45 am]

BILLING CODE 4310-33-P